DEPARTMENT OF TRANSPORTATION

Federal Aviation Administration

14 CFR Part 95

[Docket No. 31453; Amdt. No. 568]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, November 3, 2022.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29 Room 104, Oklahoma City, OK 73125. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on September 30, 2022.
Thomas J. Nichols,
Aviation Safety, Flight Standards Service, Manager, Standards Section, Flight Procedures & Airspace Group, Flight Technologies and Procedures Division.

Adoption of the Amendment

Accordingly, pursuant to the authority delegated to me by the Administrator, part 95 of the Federal Aviation Regulations (14 CFR part 95) is amended as follows effective at 0901 UTC, November 03, 2022.

PART 95—IFR ALTITUDES

1. The authority citation for part 95 continues to read as follows:

Authority: 49 U.S.C. 106(g), 40103, 40113 and 14 CFR 11.49(b)(2)

2. Part 95 is amended to read as follows:

Revisions to IFR Altitudes & Changeover Point
[Amendment 568 Effective Date, November 03, 2022]
From | To | MEA | MAA
§ 95.3000 Low Altitude RNAV Routes
§ 95.3227 RNAV Route T227 Is Amended By Adding
BINAL, AK FIX | WIXER, AK WP | *3800 | 17500
*3000—MOCA
WIXER, AK WP | CULTI, AK WP | 3400 | 17500
CULTI, AK WP | *ZAFPO, AK WP | 4300 | 17500
*4600—MCA ZAFPO, AK WP, NE BND
ZAFPO, AK WP | BATTY, AK FIX | 5600 | 17500
BATTY, AK FIX | GAMIC, AK WP | 5700 | 17500
GAMIC, AK WP | FEDGI, AK WP | 5000 | 17500
FEDGI, AK WP | *WEZZL, AK WP | *6300 | 17500
*2700—MCA WEZZL, AK WP, SW BND
WEZZL, AK WP | AMOTT, AK FIX | *2100 | 17500
*1500—MOCA
GLOWS, AK FIX | PERZO, AK WP | *3600 | 17500
*2300—MOCA
PERZO, AK WP | *FAIRBANKS, AK VORTAC | 3400 | 17500
*3600—MCA FAIRBANKS, AK VORTAC, N BND
PESGE, AK WP | *JIFFS, AK WP | 5000 | 17500
*8400—MCA JIFFS, AK WP, N BND
JIFFS, AK WP | FIPSU, AK WP | *11000 | 17500
*8400—MOCA
Is Amended To Delete
BINAL, AK FIX | PORT HEIDEN, AK NDB/DME | *3800 | 17500
PORT HEIDEN, AK NDB/DME | CULTI, AK WP | *3700 | 17500
*1900—MOCA
BATTY, AK FIX AMOTT, AK FIX | **13000 | 17500 |
*5200—MCA AMOTT, AK FIX, SW BND
*12300—MOCA
Is Amended To Read In Part
MORDI, AK FIX | GENFU, AK FIX | *4900 | 17500
*4000—MOCA
GENFU, AK FIX | BINAL, AK FIX | **4000 | 17500
*3300—MCA BINAL, AK FIX, SW BND
AMOTT, AK FIX | BIG LAKE, AK VORTAC | **2300 | 17500
*2700—MCA BIG LAKE, AK VORTAC, N BND
FAIRBANKS, AK VORTAC | PESGE, AK WP | **5400 | 17500
*5100—MCA PESGE, AK WP, S BND
§ 95.3229 RNAV Route T229 Is Amended By Adding
KOTZEBUE, AK VOR/DME | SUGRE, AK FIX | 4000 | 17500
SUGRE, AK FIX | VANTY, AK WP | 3000 | 17500
Is Amended To Delete
KOTZEBUE, AK VOR/DME | POINT HOPE, AK NDB | 4000 | 17500
§ 95.3231 RNAV Route T231 Is Amended To Read in Part
SELAWIK, AK VOR/DME | KOTZEBUE, AK VOR/DME | *3000 | 17500
*2500—MOCA
§ 95.3232 RNAV Route T232 Is Amended By Adding
BARROW, AK VOR/DME | BRONX, AK FIX | *4000 | 17500
*1900—MOCA
BRONX, AK FIX | AKUMY, AK WP | 9100 | 17500
AKUMY, AK WP | *OCOCU, AK FIX | **9000 | 17500
*5600—MCA OCOCU, AK FIX, NW BND
**7800—MOCA
OCOCU, AK FIX | BETTLES, AK VOR/DME | *9000 | 17500
*4100—MOCA
BETTLES, AK VOR/DME | *FAIRBANKS, AK VORTAC | **6000 | 17500
*3600—MCA FAIRBANKS, AK VORTAC, NW BND
**5400—MOCA
FAIRBANKS, AK VORTAC | KRNKL, AK FIX | *3200 | 17500
*2900—MOCA
KRNKL, AK FIX | IMARE, AK FIX | *2300 | 17500
*1900—MOCA
IMARE, AK FIX | CUTUB, AK WP | *3900 | 17500
*3400—MOCA
CUTUB, AK WP | *RIVOR, AK FIX | 3700 | 17500
*2800—MCA RIVOR, AK FIX, W BND
RIVOR, AK FIX | *BIG DELTA, AK VORTAC | 3200 | 17500
*5100—MCA BIG DELTA, AK VORTAC, E BND
BIG DELTA, AK VORTAC | MEYLE, AK FIX | 6400 | 17500
MEYLE, AK FIX | NORTHWAY, AK VORTAC | 8000 | 17500
Is Amended To Delete
NORTHWAY, AK VORTAC | BIG DELTA, AK VORTAC | 8000 | 17500
BIG DELTA, AK VORTAC | FAIRBANKS, AK VORTAC | *5000 | 17500
*4300—MOCA
FAIRBANKS, AK VORTAC | BETTLES, AK VOR/DME | *6000 | 17500
*5200—MOCA
BETTLES, AK VOR/DME | BRONX, AK FIX | *9000 | 17500
BRONX, AK FIX | BARROW, AK VOR/DME | *4000 | 17500
*1200—MOCA
§ 95.3233 RNAV Route T233 Is Amended By Adding
KOTZEBUE, AK VOR/DME | CIBDU, AK WP | 2600 | 17500
CIBDU, AK WP | TOMPY, AK WP | 4100 | 17500
TOMPY, AK WP | KORKY, AK WP | 4900 | 17500
ENCOR, AK WP | BETTLES, AK VOR/DME | 4700 | 17500
Is Amended To Delete
AMBLER, AK NDB | KORKY, AK WP | *5000 | 17500
ENCOR, AK WP | EVANSVILLE, AK NDB | *5000 | 17500
Is Amended To Read in Part
KORKY, AK WP | *ENCOR, AK WP | 6800 | 17500
*4900—MCA ENCOR, AK WP, W BND
§ 95.3235 RNAV Route T235 Is Amended By Adding
FILEV, AK WP | ZISDU, AK WP | 1800 | 17500
ZISDU, AK WP | WUPUV, AK WP | *2000 | 17500
*1400—MOCA
WUPUV, AK WP | JATIL, AK WP | *3500 | 17500
*1500—MOCA
JATIL, AK WP | ZADRO, AK WP | 1800 | 17500
ZADRO, AK WP | DEADHORSE, AK VOR/DME | 1900 | 17500
Is Amended To Delete
ATQASUK, AK NDB | NUIQSUT VILLAGE, AK NDB | *3000 | 17500
*1300—MOCA
§ 95.3267 RNAV Route T267 Is Amended By Adding
KOTZEBUE, AK VOR/DME | *SICOV, AK WP | 3900 | 17500
*2400—MCA SICOV, AK WP, SE BND
SICOV, AK WP | *HIBLA, AK WP | **5000 | 17500
*2600—MCA HIBLA, AK WP, NW BND
**2200—MOCA
HIBLA, AK WP | *UBASY, AK WP | **5500 | 17500
*5300—MCA UBASY, AK WP, N BND
**5000—MOCA
UBASY, AK WP | *PODKE, AK WP | **6300 | 17500
*4100—MCA PODKE, AK WP, S BND
**5400—MOCA
PODKE, AK WP | JODGU, AK WP | 4000 | 17500
JODGU, AK WP | ZISDU, AK WP | 2300 | 17500
*1300—MOCA
Is Amended To Read in Part
NOME, AK VOR/DME | *BALIN, AK FIX | **8000 | 17500
*2300—MCA BALIN, AK FIX, SW BND
**5900—MOCA
§ 95.3364 RNAV Route T364 Is Added To Read
COGNU, AK WP | HIPIV, AK WP | *3000 | 17500
*1700—MOCA
HIPIV, AK WP | KOTZEBUE, AK VOR/DME | 2600 | 17500
§ 95.3367 RNAV Route T367 Is Added To Read
JOPES, AK WP | *WOMEV, AK WP | **2600 | 17500
*2800—MCA WOMEV, AK WP, NE BND
**2100—MOCA
WOMEV, AK WP | *JERDN, AK WP | 4600 | 17500
*4200—MCA JERDN, AK WP, SW BND
JERDN, AK WP | MKLUR, AK WP | **4400 | 17500
*4400—MCA MKLUR, AK WP, SE BND
**4000—MOCA
MKLUR, AK WP | *HALUS, AK WP | 3000 | 17500
*5000—MCA HALUS, AK WP, NE BND
HALUS, AK WP | *FEMEP, AK WP | **5000 | 17500
*3700—MCA FEMEP, AK WP, NW BND
**3000—MOCA
FEMEP, AK WP | *JIGUM, AK WP | **6500 | 17500
*2800—MCA JIGUM, AK WP, SE BND
**5200—MOCA
JIGUM, AK WP | KOTZEBUE, AK VOR/DME | 2700 | 17500
KOTZEBUE, AK VOR/DME | CABGI, AK WP | 4400 | 17500
§ 95.3368 RNAV Route T368 Is Added To Read
KING SALMON, AK VORTAC | *CACCA, AK FIX | 2300 | 17500
*3300—MCA CACCA, AK FIX, E BND
CACCA, AK FIX | *ICADI, AK FIX | 3300 | 17500
*3900—MCA ICADI, AK FIX, E BND
ICADI, AK FIX | *ZAFPO, AK WP | 4300 | 17500
*4900—MCA ZAFPO, AK WP, E BND
ZAFPO, AK WP | *KOKOZ, AK FIX | 4800 | 17500
*5900—MCA KOKOZ, AK FIX, NE BND
KOKOZ, AK FIX | *WORRI, AK FIX | 7000 | 17500
*7600—MCA WORRI, AK FIX, E BND
WORRI, AK FIX | *CIXUL, AK WP | 9200 | 17500
*8500—MCA CIXUL, AK WP, W BND
CIXUL, AK WP | *OSBOE, AK FIX | 4700 | 17500
*4700—MCA OSBOE, AK FIX, NW BND
OSBOE, AK FIX | KODIAK, AK VOR/DME | 4600 | 17500
§ 95.3369 RNAV Route T369 Is Added To Read
BETHEL, AK VORTAC | JOPES, AK WP | *3000 | 17500
*1900—MOCA
JOPES, AK WP | ZIPIX, AK WP | *3200 | 17500
*2400—MOCA
ZIPIX, AK WP | NOME, AK VOR/DME | 2800 | 17500
§ 95.3370 RNAV Route T370 Is Added To Read
WIXER, AK WP | ITAWU, AK WP | 3500 | 17500
ITAWU, AK WP | DILLINGHAM, AK VOR/DME | *2800 | 17500
*1500—MOCA
DILLINGHAM, AK VOR/DME | *DUMZU, AK WP | 3500 | 17500
*4600—MCA DUMZU, AK WP, NE BND
DUMZU, AK WP | *AWOMY, AK FIX | 6100 | 17500
*6300—MCA AWOMY, AK FIX, NE BND
AWOMY, AK FIX | *MOFOF, AK FIX | 8200 | 17500
*4900—MCA MOFOF, AK FIX, SW BND
MOFOF, AK FIX | KENAI, AK VOR/DME | 2800 | 17500
§ 95.3382 RNAV Route T382 Is Added To Read
HOOPER BAY, AK VOR/DME | MEVIC, AK FIX | *3300 | 17500
*2400—MOCA
MEVIC, AK FIX | JOPES, AK WP | *3300 | 17500
*2400—MOCA
JOPES, AK WP | *FELSA, AK WP | 3400 | 17500
*3700—MCA FELSA, AK WP, NE BND
FELSA, AK WP | *YELLW, AK WP | 3800 | 17500
*3500—MCA YELLW, AK WP, SW BND
YELLW, AK WP | WEREL, AK WP | 3000 | 17500
WEREL, AK WP | OTTAC, AK WP | *3600 | 17500
*3100—MOCA
OTTAC, AK WP | *CHEFF, AK WP | 3600 | 17500
*3900—MCA CHEFF, AK WP, E BND
CHEFF, AK WP | MC GRATH, AK VORTAC | 5400 | 17500
§ 95.3385 RNAV Route T385 Is Added To Read
KODIAK, AK VOR/DME | WUMVI, AK WP | *7500 | 17500
*4700—MOCA
WUMVI, AK WP | *GAMIC, AK WP | 5400 | 17500
*4300—MCA GAMIC, AK WP, E BND
GAMIC, AK WP | WUXON, AK WP | 3000 | 17500
WUXON, AK WP | CUPTO, AK WP | 3000 | 17500
CUPTO, AK WP | DUMZU, AK WP | 4000 | 17500
§ 95.3416 RNAV Route T416 Is Added To Read
SMYRNA, DE VORTAC | TEBEE, NJ FIX | 1800 | 17500
TEBEE, NJ FIX | LULOO, NJ WP | 1900 | 17500
LULOO, NJ WP | RIDNG, NJ WP | 1900 | 17500
RIDNG, NJ WP | *ALBEK, NJ FIX | 1900 | 17500
*2000—MCA ALBEK, NJ FIX, E BND
ALBEK, NJ FIX | COYLE, NJ VORTAC | 2100 | 17500
COYLE, NJ VORTAC | PREPI, OA FIX | 1900 | 17500
§ 95.3430 RNAV Route T430 Is Added To Read
PHILIPSBURG, PA VORTAC | SELINSGROVE, PA VOR/DME | 4900 | 17500
SELINSGROVE, PA VOR/DME | *PINNA, PA FIX | 3500 | 17500
*3100—MCA PINNA, PA FIX, NW BND
PINNA, PA FIX | EAST TEXAS, PA VOR/DME | 2700 | 17500
EAST TEXAS, PA VOR/DME | TROXL, PA FIX | 2600 | 17500
TROXL, PA FIX | BOPLY, PA FIX | 2400 | 17500
BOPLY, PA FIX | LANNA, NJ FIX | 2400 | 17500
LANNA, NJ FIX | SOLBERG, NJ VOR/DME | 2400 | 17500
§ 95.3438 RNAV Route T438 Is Added To Read
RASHE, PA FIX | *HERDA, PA FIX | 4600 | 17500
*4300—MCA HERDA, PA FIX, W BND
HERDA, PA FIX | MORTO, PA FIX | 3800 | 17500
MORTO, PA FIX | RAVINE, PA VORTAC | 3500 | 17500
RAVINE, PA VORTAC | VAYRE, PA FIX | 3500 | 17500
VAYRE, PA FIX | DUMMR, PA FIX | 3400 | 17500
DUMMR, PA FIX | FLOAT, PA FIX | 3200 | 17500
FLOAT, PA FIX | HIKES, PA FIX | *2900 | 17500
*2400—MOCA
HIKES, PA FIX | MAZIE, PA FIX | 2800 | 17500
MAZIE, PA FIX | YARDLEY, PA VOR/DME | 2000 | 17500
YARDLEY, PA VOR/DME | ROBBINSVILLE, NJ VORTAC | 2100 | 17500
ROBBINSVILLE, NJ VORTAC | CASVI, NJ FIX | 2000 | 17500
CASVI, NJ FIX | ZIGGI, NJ FIX | 1900 | 17500
ZIGGI, NJ FIX | PREPI, OA FIX | 1700 | 17500
§ 95.4000 High Altitude RNAV Routes
§ 95.4081 RNAV Route Q81 Is Amended By Adding
FIPES, OG WP | ZEILR, FL FIX | *18000 | 45000
*18000—GNSS MEA
*DME/DME/IRU MEA
ZEILR, FL FIX | PIKKR, OG WP | *18000 | 45000
*18000—GNSS MEA
*DME/DME/IRU MEA
PIKKR, OG WP | FARLU, FL WP | *18000 | 45000
*18000—GNSS MEA
*DME/DME/IRU MEA
Is Amended To Delete
FIPES, OG WP | THMPR, FL WP | *18000 | 45000
*18000—GNSS MEA
*DME/DME/IRU MEA
THMPR, FL WP | LEEHI, FL WP | *18000 | 45000
*18000—GNSS MEA
*DME/DME/IRU MEA
LEEHI, FL WP | FARLU, FL WP | *18000 | 45000
*18000—GNSS MEA
*DME/DME/IRU MEA
§ 95.4122 RNAV ROUTE Q122 Is Amended By Adding
O'NEILL, NE VORTAC | KATES, NE WP | *18000 | 45000
*18000—GNSS MEA
*DME/DME/IRU MEA
KATES, NE WP | VIRGN, IA WP | *18000 | 45000
*18000—GNSS MEA
*DME/DME/IRU MEA
VIRGN, IA WP | VIGGR, IA WP | *18000 | 45000
*18000—GNSS MEA
*DME/DME/IRU MEA
Is Amended To Delete
O'NEILL, NE VORTAC | FORT DODGE, IA VORTAC | *18000 | 45000
*18000—GNSS MEA
*DME/DME/IRU MEA
§ 95.4136 RNAV Route Q136 Is Amended By Adding
HIBAV, IA WP | DIYAP, IA WP | *19000 | 45000
*18000—GNSS MEA
*DME/DME/IRU MEA
Is Amended To Delete
HIBAV, IA WP | BAACN, IA WP | *19000 | 45000
*18000—GNSS MEA
*DME/DME/IRU MEA
§ 95.4947 RNAV ROUTE Q947 Is Amended to Delete
U.S. CANADIAN BORDER | TOPPS, ME FIX | *18000 | 45000
*18000—GNSS MEA
*DME/DME/IRU MEA
TOPPS, ME FIX | CUZWA, ME WP | *18000 | 45000
*18000—GNSS MEA
*DME/DME/IRU MEA
CUZWA, ME WP | U.S. CANADIAN BORDER | *18000 | 45000
*18000—GNSS MEA
*DME/DME/IRU MEA

From | To | MEA
§ 95.6001 Victor Routes-U.S.
§ 95.6007 VOR Federal Airway V7 Is Amended To Delete
VULCAN, AL VORTAC | MUSCLE SHOALS, AL VORTAC | *2800
*2200—MOCA
§ 95.6008 VOR Federal Airway V8 Is Amended To Read in Part
AHEIM, CA FIX | OLLIE, CA FIX | 3000
*4300—MCA OLLIE, CA FIX, NE BND
OLLIE, CA FIX | PARADISE, CA VORTAC | 5300
PARADISE, CA VORTAC | *RAVON, CA FIX | 4700
*8800—MCA RAVON, CA FIX, NE BND
§ 95.6009 VOR Federal Airway V9 Is Amended To Delete
MARVELL, AR VOR/DME | GILMORE, AR VOR/DME | 1900
GILMORE, AR VOR/DME | MALDEN, MO VORTAC | *3000
*2300—MOCA
MALDEN, MO VORTAC | FARMINGTON, MO VORTAC | *3000
*2300—MOCA
§ 95.6014 VOR Federal Airway V14 Is Amended To Read in Part
ONSOM, NM FIX | WINNS, TX FIX | *8000
*6400—MOCA
WINNS, TX FIX | *FLATT, TX FIX | **8000
*8000—MRA
**5400—MOCA
FLATT, TX FIX | LUBBOCK, TX VORTAC | *5200
*5000—MOCA
§ 95.6020 VOR Federal Airway V20 Is Amended To Read in Part
COLUMBUS, GA VORTAC | SINCA, GA FIX | *4500
*2500—MOCA
§ 95.6021 VOR Federal Airway V21 Is Amended To Read in Part
AHEIM, CA FIX | *OLLIE, CA FIX | 3000
*4300—MCA OLLIE, CA FIX, NE BND
OLLIE, CA FIX | PARADISE, CA VORTAC | 5300
PARADISE, CA VORTAC | *RAVON, CA FIX | 4700
*8800—MCA RAVON, CA FIX, NE BND
§ 95.6029 VOR Federal Airway V29 Is Amended To Read in Part
SLATT, PA FIX | *WILKES-BARRE, PA VORTAC | 4000
*4400—MCA WILKES-BARRE, PA VORTAC, N BND
WILKES-BARRE, PA VORTAC | *SCOFF, PA FIX | 4800
*4400—MCA SCOFF, PA FIX, S BND
VESPE, NY FIX | SYRACUSE, NY VORTAC
N BND |  | 4000
S BND |  | 4500
§ 95.6031 VOR Federal Airway V31 Is Amended To Delete
PATUXENT, MD VORTAC | *ARUYE, MD WP | 2500
*6000—MRA
ARUYE, MD FIX | NOTTINGHAM, MD VORTAC | #*6000
*3000—GNSS MEA
#NOTTINGHAM R-138 UNUSABLE BELOW 6000′
BALTIMORE, MD VORTAC | VINNY, PA FIX | 3000
VINNY, PA FIX | GRAMO, PA FIX | *7000
*5000—GNSS MEA
GRAMO, PA FIX | HARRISBURG, PA VORTAC | *7000
*5000—GNSS MEA
HARRISBURG, PA VORTAC | MORTO, PA FIX | 3000
MORTO, PA FIX | SELINSGROVE, PA VOR/DME | 5000
SELINSGROVE, PA VOR/DME | WATSO, PA FIX | *3500
*3100—MOCA
WATSO, PA FIX | WILLIAMSPORT, PA VOR/DME | 3800
WILLIAMSPORT, PA VOR/DME | ELMIRA, NY VOR/DME | 4000
ELMIRA, NY VOR/DME | GIBBE, NY FIX | 3800
GIBBE, NY FIX | BEEPS, NY FIX | 3500
BEEPS, NY FIX | ROCHESTER, NY VOR/DME | 4000
ROCHESTER, NY VOR/DME | AIRCO, NY FIX | 4000
§ 95.6035 VOR Federal Airway V35 Is Amended To Read in Part
GREENVILLE, FL VORTAC | *SALER, GA FIX | UNUSABLE
*3000—MRA
§ 95.6053 VOR Federal Airway V53 Is Amended To Read in Part
COLUMBIA, SC VORTAC | WILLS, SC FIX | UNUSABLE
§ 95.6058 VOR Federal Airway V58 Is Amended To Delete
PHILIPSBURG, PA VORTAC | WILLIAMSPORT, PA VOR/DME | 4000
HELON, NY FIX | KINGSTON, NY VOR/DME | 4000
KINGSTON, NY VOR/DME | HARTFORD, CT VOR/DME | 3200
HARTFORD, CT VOR/DME | GROTON, CT VOR/DME | 2500
GROTON, CT VOR/DME | SANDY POINT, RI VOR/DME | *2000
*1500—MOCA
SANDY POINT, RI VOR/DME | NANTUCKET, MA VOR/DME | 2000
§ 95.6071 VOR Federal Airway V71 Is Amended To Read in Part
TOPEKA, KS VORTAC | PAWNEE CITY, NE VORTAC | *4000
*2900—MOCA
§ 95.6100 VOR Federal Airway V100 Is Amended To Delete
FORT DODGE, IA VORTAC | WATERLOO, IA VOR/DME | 3000
§ 95.6106 VOR Federal Airway V106 Is Amended To Delete
RASHE, PA FIX | SELINSGROVE, PA VOR/DME | 14000
SELINSGROVE, PA VOR/DME | DIANO, PA FIX | 3700
DIANO, PA FIX | WILKES-BARRE, PA VORTAC | 4000
WILKES-BARRE, PA VORTAC | LAAYK, PA FIX
NE BND |  | *5000
SW BND |  | *4000
*4000—MOCA
Is Amended To Read in Part
JOHNSTOWN, PA VOR/DME | HUDON, PA FIX | 5300
HUDON, PA FIX | RASHE, PA FIX | *7000
*4600—MOCA
*4600—GNSS MEA
§ 95.6107 VOR Federal Airway V107 Is Amended To Read in Part
LOS ANGELES, CA VORTAC | STABO, CA FIX | 2800
§ 95.6130 VOR Federal Airway V130 Is Amended To Delete
NORWICH, CT VOR/DME | MINNK, RI FIX | 2300
MINNK, RI FIX | MARTHAS VINEYARD, MA VOR/DME | *3000
*1600—MOCA
§ 95.6138 VOR Federal Airway V138 Is Amended To Delete
OMAHA, IA VORTAC | FORT DODGE, IA VORTAC | *4500
*3000—MOCA
*3000—GNSS MEA
FORT DODGE, IA VORTAC | MASON CITY, IA VOR/DME | 3000
§ 95.6147 VOR Federal Airway V147 Is Amended To Read in Part
SLATT, PA FIX | *WILKES-BARRE, PA VORTAC | 4000
*4400—MCA WILKES-BARRE, PA VORTAC, NW BND
§ 95.6149 VOR Federal Airway V149 Is Amended To Delete
ALLENTOWN, PA VORTAC | BINGHAMTON, NY VOR/DME | *5000
*4000—MOCA
§ 95.6155 VOR Federal Airway V155 Is Amended To Read in Part
COLUMBUS, GA VORTAC | SINCA, GA FIX | *4500
*2500—MOCA
§ 95.6159 VOR Federal Airway V159 Is Amended To Read in Part
GREENVILLE, FL VORTAC | *SALER, GA FIX | UNUSABLE
*3000—MRA
§ 95.6161 VOR Federal Airway V161 Is Amended To Read in Part
LLANO, TX VORTAC | BUILT, TX FIX | *6000
*3400—MOCA
BUILT, TX FIX | *DUFFA, TX FIX | **6000
*6000—MRA
**2900—MOCA
§ 95.6210 VOR Federal Airway V210 Is Amended To Read in Part
UNPAS, NV FIX | PEACH SPRINGS, AZ VOR/DME | 10500
§ 95.6214 VOR Federal Airway V214 Is Amended To Delete
MARTINSBURG, WV VORTAC | WOOLY, MD FIX | 3200
WOOLY, MD FIX | BALTIMORE, MD VORTAC | 2600
BALTIMORE, MD VORTAC | SWANN, MD FIX | 2000
SWANN, MD FIX | GATBY, MD FIX | #
#UNUSABLE
GATBY, MD FIX | KERNO, MD FIX | #
#UNUSABLE
KERNO, MD FIX | ODESA, MD FIX | #
#UNUSABLE
ODESA, MD FIX | DUPONT, DE VORTAC | #*2000
*2000—GNSS MEA
#DUPONT R-233 UNUSABLE BEYOND 22 NM
DUPONT, DE VORTAC | YARDLEY, PA VOR/DME | *6000
*3000—GNSS MEA
YARDLEY, PA VOR/DME | TETERBORO, NJ VOR/DME | *3000
*2000—MOCA MAA—10000
§ 95.6264 VOR Federal Airway V264 Is Amended To Read in Part
LOS ANGELES, CA VORTAC | *STABO, CA FIX | 2800
*3300—MCA STABO, CA FIX, NE BND
STABO, CA FIX | *AMTRA, CA FIX | 3400
*3700—MCA AMTRA, CA FIX, E BND
REANS, CA FIX | *YUCCA, CA FIX | 13700
*12300—MCA YUCCA, CA FIX, W BND
§ 95.6405 VOR Federal Airway V405 Is Amended To Read in Part
PROVIDENCE, RI VOR/DME | FALMA, RI FIX | *3000
*1700—MOCA
*2000—GNSS MEA
§ 95.6445 VOR Federal Airway V445 Is Amended To Delete
MITCH, MD FIX | SWANN, MD FIX | *7000
*3000—GNSS MEA
SWANN, MD FIX | GATBY, MD FIX | #
#UNUSABLE
GATBY, MD FIX | KERNO, MD FIX | #
#UNUSABLE
KERNO, MD FIX | ODESA, MD FIX | #
#UNUSABLE
ODESA, MD FIX | DUPONT, DE VORTAC | #*2000
*3000—GNSS MEA
#DUPONT R-233 UNUSABLE BEYOND 22NM
DUPONT, DE VORTAC | YARDLEY, PA VOR/DME | *6000
*3000—GNSS MEA
YARDLEY, PA VOR/DME | EMPYR, NY FIX | 2100
EMPYR, NY FIX | NANCI, NY FIX | 2700
NANCI, NY FIX | LA GUARDIA, NY VOR/DME | 2900
§ 95.6447 VOR Federal Airway V447 Is Amended To Delete
CAMBRIDGE, NY VOR/DME | KERST, VT FIX | *5900
*5400—MOCA
KERST, VT FIX | MUDDI, VT WP | *6000
*5500—MOCA
MUDDI, VT WP | RUCKY, VT FIX | *6000
*5500—MOCA
RUCKY, VT FIX | MONTPELIER, VT VOR/DME | *4500
*4000—MOCA
MONTPELIER, VT VOR/DME | PLOTT, VT FIX | 4800
PLOTT, VT FIX | HURDS, VT WP | 5000
HURDS, VT WP | U.S. CANADIAN BORDER | 5000
§ 95.6451 VOR Federal Airway V451 Is Amended To Delete
LA GUARDIA, NY VOR/DME | *NESSI, CT FIX | **4000
*4000—MCA NESSI, CT FIX, W BND
**1900—MOCA
**2000—GNSS MEA
NESSI, CT FIX | KEYED, NY FIX | #2500
#SEGMENT UNUSABLE EXCEPT FOR AIRCRAFT EQUIPPED WITH SUITABLE RNAV SYSTEM WITH GPS
KEYED, NY FIX | CREAM, NY FIX | 2000
CREAM, NY FIX | GROTON, CT VOR/DME | *6000
*4000—GNSS MEA
§ 95.6456 VOR Federal Airway V456 Is Amended To Delete
FORT DODGE, IA VORTAC | MANKATO, MN VOR/DME | 3000
§ 95.6462 VOR Federal Airway V462 Is Amended To Delete
FORT DODGE, IA VORTAC | SIOUX FALLS, SD VORTAC | 4400
§ 95.6475 VOR Federal Airway V475 Is Amended To Delete
LA GUARDIA, NY VOR/DME | DUNBO, NY FIX | 2000
DUNBO, NY FIX | BRIDGEPORT, CT VOR/DME | *2000
*1500—MOCA
BRIDGEPORT, CT VOR/DME | MADISON, CT VOR/DME | *2000
*1500—MOCA
MADISON, CT VOR/DME | NORWICH, CT VOR/DME | #2600
#MADISON R-078 UNUSABLE BYD 16 NM USE NORWICH R-259
NORWICH, CT VOR/DME | PROVIDENCE, RI VOR/DME | *2400
*1900—MOCA
§ 95.6505 VOR Federal Airway V505 Is Amended To Delete
DES MOINES, IA VORTAC | GUMBO, IA FIX | 2700
GUMBO, IA FIX | FORT DODGE, IA VORTAC | 3000
FORT DODGE, IA VORTAC | MASON CITY, IA VOR/DME | 3000
§ 95.6357 Alaska VOR Federal Airway V357 Is Amended To Read in Part
SANER, AK FIX | HOMER, AK VOR/DME
N BND |  | 6000
S BND |  | 9000
§ 95.6406 Hawaii VOR Federal Airway V6 Is Amended To Read in Part
PLUMB, HI FIX | MAUI, HI VORTAC | 4400
§ 95.6422 Hawaii VOR Federal Airway V22 Is Amended To Read in Part
PLUMB, HI FIX | *MAUI, HI VORTAC | 4400
*6300—MCA MAUI, HI VORTAC, E BND

From | To | MEA | MAA
§ 95.7001 Jet Routes
§ 95.7014 Jet Route J14 Is Amended To Delete
GREENSBORO, NC VORTAC | RICHMOND, VA VORTAC | 18000 | 45000
RICHMOND, VA VORTAC | PATUXENT, MD VORTAC | 18000 | 45000
§ 95.7024 Jet Route J24 Is Amended To Delete
MONTEBELLO, VA VOR/DME | FLAT ROCK, VA VORTAC | 18000 | 41000
FLAT ROCK, VA VORTAC | HARCUM, VA VORTAC | 18000 | 29000
§ 95.7052 Jet Route J52
SIDON, MS VORTAC | BIGBEE, MS VORTAC | 18000 | 45000
BIGBEE, MS VORTAC | VULCAN, AL VORTAC | 18000 | 45000
TUBAS, NC FIX | RALEIGH/DURHAM, NC VORTAC | 18000 | 45000
RALEIGH/DURHAM, NC VORTAC | RICHMOND, VA VORTAC | 18000 | 45000
§ 95.7068 Jet Route J68 Is Amended To Delete
HANCOCK, NY VOR/DME | PUTNAM, CT VOR/DME | 18000 | 45000
PUTNAM, CT VOR/DME | PROVIDENCE, RI VOR/DME | 18000 | 45000
PROVIDENCE, RI VOR/DME | NANTUCKET, MA VOR/DME | 18000 | 45000
§ 95.7082 Jet Route J82 Is Amended to Delete
SIOUX FALLS, SD VORTAC | FORT DODGE, IA VORTAC | 18000 | 45000
FORT DODGE, IA VORTAC | DUBUQUE, IA VORTAC | 18000 | 45000
§ 95.7094 Jet Route J94 Is Amended To Delete
O'NEILL, NE VORTAC | FORT DODGE, IA VORTAC | 18000 | 45000
FORT DODGE, IA VORTAC | DUBUQUE, IA VORTAC | 18000 | 45000
§ 95.7165 Jet Route J165 Is Amended To Delete
DWYTE, SC FIX | RICHMOND, VA VORTAC | 18000 | 45000
§ 95.7207 Jet Route J207 Is Amended To Delete
FLORENCE, SC VORTAC | RALEIGH/DURHAM, NC VORTAC | 31000 | 45000
RALEIGH/DURHAM, NC VORTAC | FRANKLIN, VA VORTAC | 18000 | 45000
§ 95.7506 Jet Route J506 Is Amended To Delete
MILLINOCKET, ME VOR/DME | U.S. CANADIAN BORDER | 18000 | 45000
§ 95.7561 Jet Route J561 Is Amended To Delete
PRESQUE ISLE, ME VOR/DME | U.S. CANADIAN BORDER | 18000 | 45000
§ 95.7563 Jet Route J563 Is Amended To Delete
ALBANY, NY VORTAC U.S | CANADIAN BORDER | 18000 | 45000
§ 95.7573 Jet Route J573 Is Amended To Delete
KENNEBUNK, ME VOR/DME | U.S. CANADIAN BORDER | 18000 | 45000
§ 95.7582 Jet Route J582 Is Amended To Delete
PRESQUE ISLE, ME VOR/DME | U.S. CANADIAN BORDER | 18000 | 45000
§ 95.7585 Jet Route J585 Is Amended To Delete
NANTUCKET, MA VOR/DME | U.S. CANADIAN BORDER | 18000 | 45000

From | To | Changeover points: Distance | Changeover points: From
§ 95.8003 VOR Federal Airway Changeover Point
V3 Is Amended To Add Changeover Point
FORT LAUDERDALE, FL VOR/DME | PALM BEACH, FL VORTAC | 24 | FORT LAUDERDALE.
V31 Is Amended To Delete Changeover Point
HARRISBURG, PA VORTAC | SELINGSGROVE, PA VOR/DME | 19 | HARRISBURG.
V475 Is Amended To Delete Changeover Point
LA GUARDIA, NY VOR/DME | BRIDGEPORT, CT VOR/DME | 9 | LA GUARDIA.
MADISON, CT VOR/DME | NORWICH, CT VOR/DME | 16 | MADISON.
§ 95.8005 Jet Routes Changeover Points
J52 Is Amended To Delete Changeover Point
BIGBEE, MS VORTAC | VULCAN, AL VORTAC | 25 | BIGBEE.

[FR Doc. 2022-21718 Filed 10-6-22; 8:45 am]

BILLING CODE 4910-13-P